DEPARTMENT OF AGRICULTURE

Forest Service

National Urban and Community Forestry Advisory Council

AGENCY: Forest Service, Agriculture (USDA).

ACTION: Solicitation of nominations for membership.

SUMMARY: The United States Department of Agriculture (USDA) is seeking nominations to fill fourteen (14) positions for the National Urban and Community Forestry Advisory Council (Council). The Council advises the Secretary of Agriculture, USDA Forest Service, and related Federal agencies on community and urban forestry, related natural resources, and other such matters as the Secretary determines.

DATES: Nominations must be submitted via email (preferred), or postmarked, by February 17, 2026.

ADDRESSES: Please submit nominations and resumes to the Secretary of Agriculture through the USDA Forest Service, Nancy Stremple, Designated Federal Officer (DFO), nancy.stremple@usda.gov, Subject line: 2026 NUCFAC Nominations (preferred), or mail to USDA Forest Service, Nancy Stremple, DFO, 201 14th and Independence SW, Washington, DC 20250.

FOR FURTHER INFORMATION CONTACT: Inquiries may be sent to Nancy Stremple, DFO, nancy.stremple@usda.gov or mailed to USDA Forest Service, Nancy Stremple, DFO, 201 14th and Independence SW, Washington, DC 20250.

SUPPLEMENTARY INFORMATION: The Council is authorized through 16 U.S.C. 2105, section 9 of the Cooperative Forestry Assistance Act of 1990 (ACT) as amended, and the Federal Advisory Committee Act (FACA), as amended (5 U.S.C. 10), directs the Secretary of Agriculture to create a fifteen member National Urban and Community Forestry Advisory Council consisting of fairly balanced representation from urban and community forestry:

• 2 members representing national nonprofit forestry and conservation citizen organizations,

• 3 members, 1 each representing State, county, and city and town governments,

• 1 member representing the forest products, nursery, or related industries,

• 1 member representing urban forestry, landscape, or design consultants,

• 2 members representing academic institutions with expertise in urban and community forestry activities,

• 1 member representing State forestry agencies or equivalent State agencies,

• 1 member representing a professional renewable natural resources or arboricultural society,

• 1 member from the National Institute of Food and Agriculture,

• 1 member representing the USDA Forest Service,

• 2 members who are not officers or employees of any governmental body, 1 of whom is a resident of a community with a population of less than 50,000 as of the most recent census and both of whom have expertise and have been active in urban and community forestry.

The Forest Service position is not open for nomination.

The Council's primary responsibilities include: (1) Develop a 10 year National Urban and Community Forestry Action Plan in accordance with section 9 (g) (3) (A-F) of the Act; (2) Evaluate the implementation of that plan annually; and (3) Develop criteria for, and submit recommendations with respect to, the Forest Service's National Urban and Community Forestry challenge cost-share grant program as required by section 9 (f) (1-2) of the Act. The Council will be governed by the provisions of FACA. Council members serve a three (3) year term and may be reappointed for a second and final three-year term.

Membership Nomination Information

Any interested person or organization may nominate qualified individuals for membership. Interested candidates may nominate themselves. Individuals who wish to be considered for membership on the National Urban and Community Forestry Advisory Council must submit a nomination with information, including an encrypted background disclosure form (Form AD-755). Nominations should be typed and include the following:

1. If nominating an individual, a brief summary, no more than two pages, explaining the nominee's qualifications to serve on the National Urban and Community Forestry Advisory Council and addressing the applicable membership composition and criteria described above.

2. A resume providing the nominee's background, experience, and educational qualifications related to the position(s) they are applying for.

3. Required background information form. A completed Advisory Committee Background Information form (AD-755) signed and encrypted by the nominee is available online at https://www.usda.gov/sites/default/files/documents/ad-755-advisory-committee-commodity-board-background-information.pdf.

4. Letters of recommendations or endorsements are optional.

Equal opportunity practices, in accordance with USDA policies, will be followed in all membership appointments to the Council.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (for example, Braille, large print, audiotape, American Sign Language) should contact the State or local Agency that administers the program or contact USDA through the Telecommunications Relay Service at 711 (voice and TTY). Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Mail Stop 9410, Washington, DC 20250-9410; (2) fax: (202) 690-7442; or (3) email: program.intake@usda.gov.

USDA is an equal opportunity provider, employer, and lender.

Dated: January 12, 2026.
Cikena Reid,
USDA Committee Management Officer.

[FR Doc. 2026-00568 Filed 1-13-26; 8:45 am]

BILLING CODE 3411-15-P